ENVIRONMENTAL PROTECTION AGENCY

[FRL-8208-3]

Notice of Disclosure of Confidential Business Information Obtained Under the Comprehensive Environmental Response, Compensation and Liability Act to EPA Contractor Science Applications International Corp. (SAIC)

AGENCY: Environmental Protection Agency (EPA).

ACTION: Notice; Request for comment.

SUMMARY: EPA has authorized SAIC Corp. of Oakland, California, for access to Information which has been submitted to EPA under the environmental statues administered by the Agency. Some of this information may be claimed or determined to be confidential business information (CBI).

DATES: Comments concerning CBI access will be accepted through August 31, 2006.

ADDRESSEES: Comments should be sent to Peggy Delatorre, Contracting Officer, Environmental Protection Agency Mail Code: MTS-4-3, 75 Hawthorne Street, San Francisco, CA 94105. Telephone: (415) 972-3717.

Notice of Required Determinations, Contract Provisions and Opportunity to Comment: Under EPA contract number: GS-10F-0076J Delivery Order #0909, SAIC provides enforcement support services to the Environmental Protection Agency Region 9. In performing these tasks, SAIC employees have access to agency documents for purposes of document processing, filing, abstracting, analyzing, inventorying, retrieving, tracking, etc. The documents to which SAIC has access potentially include documents submitted under the Resource Conservation and Recovery Act and Comprehensive Environmental Response, Compensation, and Liability Act. Some of these documents may contain information claimed as CBI. SAIC is required by contract to protect confidential information. When SAIC's need for the documents is completed, SAIC will return them to EPA.

Dated: July 27, 2006.
Elizabeth Adams,
Acting Director, Superfund Division, U.S. EPA Region IX.

[FR Doc. E6-13286 Filed 8-11-06; 8:45 am]

BILLING CODE 6560-50-P